DEPARTMENT OF COMMERCE

International Trade Administration

[A-570-084, C-570-085]

Supplemental Initiation of Antidumping and Countervailing Duty Administrative Reviews of Certain Quartz Surface Products From the People's Republic of China

AGENCY: Enforcement and Compliance, International Trade Administration, Department of Commerce.

SUMMARY: The U.S. Department of Commerce (Commerce) has received additional timely requests to conduct administrative reviews of the antidumping duty (AD) and countervailing duty (CVD) orders on certain quartz surface products (quartz surface products) from the People's Republic of China (China). Thus, we are initiating these administrative reviews.

DATES: Applicable March 27, 2024.

FOR FURTHER INFORMATION CONTACT: Ajay K. Menon, AD/CVD Operations, Office IX, Enforcement and Compliance, International Trade Administration, U.S. Department of Commerce, 1401 Constitution Avenue NW, Washington, DC 20230, telephone: (202) 482-0208.

SUPPLEMENTARY INFORMATION:

Background

Commerce has received additional timely requests, in accordance with the Supplemental Opportunity Notice,¹ for administrative reviews of the AD and CVD orders on quartz surface products from China for the company and the periods of review (PORs) noted below.

¹ See Certain Quartz Surface Products from the People's Republic of China: Expansion of the Period of Review and Supplemental Opportunity To Request Administrative Review, 89 FR 14055 (February 26, 2024) (Supplemental Opportunity Notice); see also Certain Quartz Surface Products From the People's Republic of China: Expansion of the Period of Review and Supplemental Opportunity To Request Administrative Review; Correction, 89 FR 17812 (March 12, 2024) (Correction Notice).

Initiation of Reviews

In accordance with the Supplemental Opportunity Notice,² based on requests from Artelye Inc., we are initiating AD and CVD administrative reviews on quartz surface products from China for Unique Stone Sdn. Bhd. (Unique Stone). In accordance with the Correction Notice,³ the expanded POR of the AD review is November 4, 2021, through June 30, 2023, while the expanded POR of the CVD review is November 4, 2021, through December 31, 2022. In accordance with the Supplemental Opportunity Notice, Commerce's AD and CVD reviews of Unique Stone will be limited to the company's eligibility to participate in the certification process.⁴ Moreover, as noted in the Supplemental Opportunity Notice, we will only examine Unique Stone in these AD and CVD reviews to the extent that it has suspended entries of subject merchandise during the expanded AD and CVD PORs noted above.

² See Supplemental Opportunity Notice, 89 FR at 14056.

³ See Correction Notice, 89 FR at 17812.

⁴ See Supplemental Opportunity Notice, 89 FR at 14056.

We intend to issue the preliminary results of these reviews not later than July 30, 2024.

Administrative Protective Orders and Letters of Appearance

Interested parties must submit applications for disclosure under administrative protective orders in accordance with the procedures outlined in Commerce's regulations at 19 CFR 351.305, which apply to these administrative reviews. Parties wishing to participate in these administrative reviews should ensure that they meet the requirements of these procedures (e.g., the filing of separate letters of appearance as discussed at 19 CFR 351.103(d)).

Notification to Interested Parties

These initiations and this notice are in accordance with section 751(a) of the Tariff Act of 1930, as amended (19 U.S.C. 1675(a)), and 19 CFR 351.221(c)(1)(i).

Dated: March 20, 2024.
James Maeder,
Deputy Assistant Secretary for Antidumping and Countervailing Duty Operations.

[FR Doc. 2024-06470 Filed 3-26-24; 8:45 am]

BILLING CODE 3510-DS-P